DEPARTMENT OF THE INTERIOR

Bureau of Indian Affairs

Indian Child Welfare Act; Receipt of Designated Tribal Agents for Service of Notice; Addendum

AGENCY: Bureau of Indians Affairs, Interior.

ACTION: Notice; addendum.

SUMMARY: This notice is published in exercise of authority delegated by the Secretary of the Interior to the Principal Deputy Assistant Secretary—Indian Affairs by 209 DM 8.

The regulations implementing the Indian Child Welfare Act provide that Indian tribes may designate an agent other than the tribal chairman for service of notice of proceedings under the Act, 25 CFR 23.12. The Secretary of the Interior shall publish in the Federal Register on an annual basis the names and addresses of the designated agents.

This is an addendum to the Designated Tribal Agents for service of notice published on March 21, 2005 (70 FR 13518), which included the listings of designated tribal agents received by the Secretary of the Interior with the exception of the Southern Plains Region, which was inadvertently omitted. This notice publishes the designated agent list of the Southern Plains Region only.

FOR FURTHER INFORMATION CONTACT: Evangeline M. Campbell, Indian Child Welfare Supervisory Social Worker, Bureau of Indian Affairs, Division of Social Services, 1951 Constitution Avenue, NW., Mail Stop 320-SIB, Washington, DC 20240-0001; telephone: (202) 513-7623.

Dated: May 6, 2005.
Michael D. Olsen,
Principal Deputy Assistant Secretary—Indian Affairs.

Southern Plains Region

Regional Director, 11/2 mile North Highway 281, P.O. Box 368, Anadarko, OK 73005; Phone: (405) 247-6673, Ext. 314; Fax: (405) 247-5611.

WCD Office Complex, Retha Murdock, Regional Social Worker, P.O. Box 368, Anadarko, Oklahoma 73005; Phone: (405) 247-6673 Ext. 257 or (405) 247-1557; Fax: (405) 247-2895.

A

Absentee-Shawnee Tribe of Oklahoma Indians, Governor, 2025 S. Gordon Cooper Drive, Shawnee, Oklahoma 74801; Phone: (405) 275-4030.

Alabama-Coushatta Tribe of Texas, Chairperson, 571 State Park Road, #56, Livingston, Texas, 77351; Phone: (936) 563-4391. (Address has changed)

Apache Tribe of Oklahoma, Chairperson, P.O. Box 1220, Anadarko, Oklahoma 73005; Phone: (405) 247-9493.

C

Caddo Indian Tribe of Oklahoma, Chairperson, P.O. Box 487, Binger, Oklahoma 73009; Phone: (405) 656-2344.

Cheyenne-Arapaho Tribes of Oklahoma, Chairperson, P.O. Box 38, Concho, Oklahoma 73022; Phone: (405) 262-0345.

Citizen Potawatomi Nation, Chairperson, 1601 S. Gordon Cooper Drive, Shawnee, Oklahoma 74801; Phone: (405) 275-3121. (Address has changed)

Comanche Indian Tribe of Oklahoma, Chairperson, HC 32, Box 1720, Lawton, Oklahoma 73502; Phone: (580) 492-4988.

D

Delaware Tribe of Western Oklahoma, President, P.O. Box 825, Anadarko, Oklahoma 73005; Phone: (405) 247-2448.

F

Fort Sill Apache Tribe of Oklahoma, Chairperson, Route 2, Box 121, Apache, Oklahoma 73006; Phone: (580) 588-2298.

I

Iowa Tribe of Kansas, Chairperson, 3345 B. Thrasher Rd., White Cloud, Kansas 66094; Phone: (785) 595-3258. (Address has changed)

Iowa Tribe of Oklahoma, Chairperson, Route 1, Box 721, Perkins, Oklahoma 74059; Phone: (405) 547-2402.

K

Kaw Nation, Chairperson, Drawer 50, Kaw City, Oklahoma 74641; Phone: (580) 269-2552.

Kickapoo Traditional Tribe of Texas, Chairperson, HC 1, Box 9700, Eagle Pass, Texas 78852; Phone: (830) 773-2105.

Kickapoo Tribe of Indians of The Kickapoo Reservation in Kansas, Chairperson, P.O. Box 271, Horton, Kansas 66439; Phone: (785) 486-2131.

Kickapoo Tribe of Oklahoma, Chairperson, P.O. Box 70, McLoud, Oklahoma 74851; Phone: (405) 964-2075.

Kiowa Indian Tribe of Oklahoma, Chairperson, P.O. Box 369, Carnegie, Oklahoma 73015; Phone: (580) 654-2300.

O

Otoe-Missouria Tribe of Oklahoma, Chairperson, 8151 Highway 177, Red Rock, Oklahoma 74651; Phone: (580) 723-4466.

P

Pawnee Indian Tribe of Oklahoma, President, P.O. Box 470, Pawnee, Oklahoma 74058; Phone: (918) 762-3621.

Ponca Tribe of Indians of Oklahoma, Chairperson, 20 White Eagle Drive, Ponca City, Oklahoma, 74601; (580) 762-8104.

Prairie Band of Potawatomi Indians of Kansas, Chairperson, 16281 Q. Road, Mayetta, Kansas 66509; Phone: (785) 966-2255.

S

Sac and Fox of Missouri in Kansas, Chairperson, 305 N. Main St., Reserve, Kansas 66434; Phone: (785) 742-7471. (Change in designee title and in address.)

Sac and Fox Nation of Oklahoma, Principal Chief, Route 2, Box 246, Stroud, Oklahoma 74079; Phone: (918) 968-3526.

T

Tonkawa Tribe of Oklahoma, President, P.O. Box 70, Tonkawa, Oklahoma 74653; Phone: (580) 628-2561.

W

Wichita and Affiliated Tribes of Oklahoma, Indian Child Welfare, Coordinator, P.O. Box 729, Anadarko, Oklahoma, 73005; Phone: (405) 247-2425.

[FR Doc. 05-9940 Filed 5-18-05; 8:45 am]

BILLING CODE 4310-4J-P